DEPARTMENT OF AGRICULTURE

Agricultural Marketing Service

[Docket No. FV-06-337]

United States Standards for Grades of Canned Fruits for Salad, and United States Standards for Grades of Canned Fruit Cocktail

AGENCY: Agricultural Marketing Service, USDA.

ACTION: Notice; correction.

SUMMARY: The United States Standards for Grades of Canned Fruits for Salad, and United States Standards for Grades of Canned Fruit Cocktail are revised to reflect the change in the character classification for Grade “B” canned pears made previously in the United States Standards for Grades of Canned Pears.

DATES: Effective April 21, 2006.

Amendment for Character Classification

A Notice was published in the Federal Register, (69 FR 63612) dated October 29, 2004, revising the United States Standards for Grades of Canned Pears, issued under the Agricultural Marketing Act of 1946 (7 U.S.C. 1621-1627) effective November 29, 2004. This change affected the character classification for Grade “B” slices and diced for canned pears to read “the units are reasonably tender or tenderness may be variable within the unit.” A conforming change to the United States Standard for Grades of Canned Fruits for Salad and the United States Standards for Grades of Canned Fruit Cocktail should have been changed in this regard.

Accordingly, the Notice published in the Federal Register on October 29, 2004, at 69 FR 63612 is corrected by adding a conforming change to provide that the Grade “B” character classification of canned pears for the United States Standards for Grades of Canned Fruits for Salad and United States Standards for Grades of Canned Fruit Cocktail is changed by adding the statement “the units are reasonably tender or tenderness may be variable within the unit.” This change will affect section 52.3843 Character(c)(3) of the Canned Fruits for Salads and section 52.1063 Character (c)(2) of the Canned Fruit Cocktail.

Revised copies of the U.S. grade standards are located on the Web site at http://www.ams.usda.gov/fv/ppb.html and are available from Inspection and Standardization Section, Processed Products Branch, Fruit and Vegetable Programs, Agricultural Marketing Service, U.S. Department of Agriculture, 1400 Independence Avenue SW., Room 0709, South Building; STOP 0247, Washington, DC 20250; telephone: (202) 720-5021 or fax (202) 690-1527.

FOR FURTHER INFORMATION CONTACT: Karen L. Kaufman, (202) 720-5021, or e-mail karen.kaufman@usda.gov.

Authority: 7 U.S.C. 1621-1627.

Dated: March 17, 2006.
Lloyd C. Day,
Administrator, Agricultural Marketing Service.

[FR Doc. E6-4157 Filed 3-21-06; 8:45 am]

BILLING CODE 3410-02-P